SECURITIES AND EXCHANGE COMMISSION

Sunshine Act Meeting

TIME AND DATE: Notice is hereby given, pursuant to the provisions of the Government in the Sunshine Act, Public Law 94-409, that the Securities and Exchange Commission will hold an Open Meeting on July 18, 2018 at 10:00 a.m.

PLACE: The meeting will be held in the Auditorium, Room LL-002 at the Commission's headquarters, 100 F Street NE, Washington, DC 20549.

STATUS: This meeting will begin at 10:00 a.m. (ET) and will be open to the public. Seating will be on a first-come, first-served basis. Visitors will be subject to security checks. The meeting will be webcast on the Commission's website at http://www.sec.gov.

MATTERS TO BE CONSIDERED: The subject matters of the Open Meeting will be the Commission's consideration of:

1. Whether to adopt an amendment to Securities Act Rule 701(e), as mandated by the Economic Growth, Regulatory Relief, and Consumer Protection Act.

2. Whether to issue a concept release requesting comment on potential revisions to Securities Act Rule 701 and Securities Act Form S-8.

3. Whether to propose amendments to the disclosure requirements in Rule 3-10 and Rule 3-16 of Regulation S-X.

4. Whether to adopt amendments to Rule 3a1-1 and Regulation ATS and new Form ATS-N under the Securities Exchange Act of 1934 related to certain alternative trading systems.

At times, changes in Commission priorities require alterations in the scheduling of meeting items.

CONTACT PERSON FOR MORE INFORMATION: For further information, please contact Brent J. Fields from the Office of the Secretary at (202) 551-5400.

Dated: July 11, 2018.
Lynn M. Powalski,
Deputy Secretary.

[FR Doc. 2018-15233 Filed 7-12-18; 4:15 pm]

BILLING CODE 8011-01-P